DEPARTMENT OF ENERGY

Federal Energy Regulatory Commission

[Docket No. IS10-108-000]

Platte Pipe Line Company; Notice of Technical Conference

March 18, 2010.

Take notice that the Commission will convene a technical conference on Thursday, April 22, 2010, at 9 a.m. (EDT), in a room to be designated at the offices of the Federal Energy Regulatory Commission, 888 First Street, NE., Washington, DC 20426.

The technical conference will address all aspects of Platte's Supplement No. 15 to its FERC Tariff No. 1456 proposing to establish a new prorationing procedure for crude oil volumes moving on both segments of its pipeline system, as discussed in the Commission's Order issued on February 19, 2010.¹ Platte's current prorationing procedure contains separate allocation procedures for the two segments of its pipeline system. The proposed provisions of Supplement No. 15 would allocate capacity on both pipeline segments on the basis of historical volumes delivered to defined destinations.

¹ Platte Pipe Line Company, 130 FERC ¶ 61,125 (2010).

FERC conferences are accessible under section 508 of the Rehabilitation Act of 1973. For accessibility accommodations please send an e-mail to accessibility@ferc.gov or call toll free (866) 208-3372 (voice) or (202) 502-8659 (TTY), or send a fax to (202) 208-2106 with the required accommodations.

All interested persons are permitted to attend. For further information please contact Jenifer Lucas at (202) 502-8362 or e-mail jenifer.lucas@ferc.gov.

Kimberly D. Bose,
Secretary.

[FR Doc. 2010-6571 Filed 3-24-10; 8:45 am]

BILLING CODE 6717-01-P